DEPARTMENT OF HOMELAND SECURITY

Coast Guard

33 CFR Part 117

[Docket No. USCG-2015-0952]

Drawbridge Operation Regulation; English Kills, Brooklyn, NY

AGENCY: Coast Guard, DHS.

ACTION: Notice of deviation from drawbridge regulation.

SUMMARY: The Coast Guard has issued a temporary deviation from the operating schedule that governs the Metropolitan Ave. Bridge across the English Kills, mile 3.4, at Brooklyn, New York. This deviation is necessary to perform operating machinery installation. This deviation allows the bridge to remain in the closed position for approximately 3 days.

DATES: This deviation is effective from 6 a.m. on November 2, 2015 to 5 p.m. on November 5, 2015.

ADDRESSES: The docket for this deviation, [USCG-2015-0952] is available at http://www.regulations.gov.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: The Metropolitan Ave. Bridge, mile 3.4, across the English Kills has a vertical clearance in the closed position of 10 feet at mean high water and 15 feet at mean low water. The existing bridge operating regulations are found at 33 CFR 117.801(e).

The waterway has one commercial facility located upstream of the bridge.

New York City DOT requested this temporary deviation from the normal operating schedule to perform operating machinery installation.

Under this temporary deviation, the Metropolitan Ave. Bridge may remain in the closed position from 6 a.m. on November 2, 2015 through 5 p.m. on November 5, 2015.

Vessels able to pass through the bridge in the closed positions may do so at any time. The bridge will not be able to open for emergencies and there is no immediate alternate route for vessel to pass.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 8, 2015.
C.J. Bisignano,
Supervisory Bridge Management Specialist, First Coast Guard District.

[FR Doc. 2015-26957 Filed 10-21-15; 8:45 am]

BILLING CODE 9110-04-P